DEPARTMENT OF TRANSPORTATION

Research and Special Programs Administration

49 CFR Parts 192 and 195

[Docket Number RSPA-97-3001]

RIN 2137-AC54

Pipeline Safety: Periodic Underwater Inspections

AGENCY: Research and Special Programs Administration (RSPA), DOT.

ACTION: Proposed rule; extension of comment period.

SUMMARY: This document extends the comment period for public comments on the proposed regulations to require periodic underwater inspections of natural gas and hazardous liquid pipelines offshore or crossing navigable waterways in waters less than 15 feet deep.

DATES: Interested persons are invited to submit written comments by March 10, 2004. Late filed comments will be considered to the extent practicable.

ADDRESSES:

Filing Information

You may submit written comments by mail or delivery to the Dockets Facility, U.S. Department of Transportation, Room PL-401, 400 Seventh Street, SW., Washington, DC 20590-0001. It is open from 10 a.m. to 5 p.m., Monday through Friday, except Federal holidays. All written comments should identify the docket and notice numbers stated in the heading of this notice. Anyone desiring confirmation of mailed comments must include a self-addressed stamped postcard.

Privacy Act Statement

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

Electronic Access

You may also submit written comments to the docket electronically. To submit comments electronically, log on to the following Internet Web address: http://dms.dot.gov. Click on “Help & Information” for instructions on how to file a document electronically.

General Information

You may contact the Dockets Facility by phone at (202) 366-9329, for copies of this proposed rule or other material in the docket. All materials in this docket may be accessed electronically at http://dms.dot.gov.

FOR FURTHER INFORMATION CONTACT: L.E. Herrick by phone at (202) 366-5523, by fax at (202) 366-4566, or by e-mail at le.herrick@rspa.dot.gov, regarding the subject matter of this proposed rule. General information about RSPA's Office of Pipeline Safety (OPS) programs may be obtained by accessing OPS's Internet page at http://ops.dot.gov.

SUPPLEMENTARY INFORMATION: On December 12, 2003, RSPA/OPS published a notice of proposed rulemaking in the Federal Register (68 FR 69368) to amend the pipeline safety regulations at 49 CFR parts 192 and 195 to require owners and operators of pipeline facilities to develop procedures to conduct periodic underwater depth of burial inspections of underwater pipelines. The procedures would assess the risk of a pipeline becoming exposed or a hazard to navigation by taking into account the dynamics of the waterway, including the probability of flotation, scour, erosion, and major storms. The operator would also be required to establish a risk-based timetable for inspection of underwater pipelines.

In response to the NPRM the Interstate Natural Gas Association of America (INGAA) submitted a request for extension of the comment period. It noted that the end of year holidays and ongoing efforts to implement other regulatory requirements minimized the opportunity for the public to provide meaningful comments on the NPRM by the published due date.

Issued in Washington, DC, on January 30, 2004.
Richard D. Huriaux,
Manager, Regulations, Office of Pipeline Safety.

[FR Doc. 04-2453 Filed 2-4-04; 8:45 am]

BILLING CODE 4910-60-P